Title 3—

The President

Proclamation 9308 of August 24, 2015

Women's Equality Day, 2015

By the President of the United States of America

A Proclamation

On August 26, 1920, after years of agitating to break down the barriers that stood between them and the ballot box, American women won the right to vote. On the front lines of pickets and protests, champions from every corner of our country banded together to expand this fundamental freedom to women and forge a path toward fairer representation and greater opportunity. As we celebrate 95 years since the certification of the 19th Amendment, let us demonstrate our commitment to the belief that we are all entitled to equal treatment by supporting policies that help women succeed and thrive.

Since this historic achievement, our country has made great progress in building a freer and fairer society, and we continue striving to fully realize justice and equality for all. There is still more to do to secure the promise of our Nation for everyone, including ensuring that women have equal opportunities to participate in the classroom, the economy, the workplace, and our democracy. From day one, my Administration has carried forward the torch of gender equality, working tirelessly to ensure that all of America's daughters have the same rights as her sons.

When women succeed, America succeeds. That is why I am committed to fighting for equal pay for equal work, and why the first bill I signed into law as President was the Lilly Ledbetter Fair Pay Act, which extended the time period for employees to file complaints of compensation discrimination. I continue to support passage of the Paycheck Fairness Act because there is no reason why an earnings gap between men and women should persist in the 21st century. Women account for more than half of all workers who would benefit from an increase in the minimum wage, and I have called on the Congress to raise the minimum wage and signed an executive order to raise it to $10.10 for individuals working on new Federal service contracts. I have also proposed expanding overtime protections for certain groups of salaried employees—many of whom are women—and worked to ensure all Americans have access to quality, affordable child care while they are on the job or in school. And because no woman should have to worry about being fired from her job for missing a day of work when she is sick, caring for a sick family member, or welcoming a new child into her family, we have supported States, communities, and businesses in expanding policies for paid family leave and paid sick days. Additionally, we have called on the Congress to pass the Healthy Families Act to allow employees to earn sick leave.

Women deserve to make their own health care choices without interference from politicians or insurance companies. The Affordable Care Act expands insurance coverage for vital health services for women, including contraceptive care, prenatal care, and maternal care, and it protects women from being charged more than men simply based on gender.

Finally, every woman should have the chance to dream, grow, and thrive free from intimidation or violence, and my Administration has taken unprecedented steps to end domestic and sexual violence. We convened a White House Task Force to Protect Students from Sexual Assault, and launched It's On Us—a campaign aimed at raising awareness of and preventing sexual assault on college campuses. These are part of our broader effort to make sure that all survivors of sexual assault and domestic violence are supported and that our laws are fully enforced.

Women's equality is a core civil and human rights principle in the United States and around the world. Across America, women are contributing to our economy and our Nation in innovative and exciting ways. From businesses to battlefields, women are vital to the prosperity and security of our country. As we celebrate the last 95 years of progress in advancing women's rights, let us rededicate ourselves to the idea that our Nation is not yet complete: there is still work to do to secure the blessings of our country for every American daughter.

NOW, THEREFORE, I, BARACK OBAMA, President of the United States of America, by virtue of the authority vested in me by the Constitution and the laws of the United States, do hereby proclaim August 26, 2015, as Women's Equality Day. I call upon the people of the United States to celebrate the achievements of women and promote gender equality in our country.

IN WITNESS WHEREOF, I have hereunto set my hand this twenty-fourth day of August, in the year of our Lord two thousand fifteen, and of the Independence of the United States of America the two hundred and fortieth.

[FR Doc. 2015-21449

Filed 8-26-15; 11:15 am]

Billing code 3295-F5